DEPARTMENT OF TRANSPORTATION

Federal Motor Carrier Safety Administration

[Docket No. FMCSA-2017-0045]

Agency Information Collection Activities; Revision of an Approved Information Collection: Request for Revocation of Authority Granted

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for its review and approval and invites public comment. The FMCSA requests approval to renew an ICR titled, “Request for Revocation of Authority Granted.”

DATES: We must receive your comments on or before May 22, 2017.

ADDRESSES: You may submit comments identified by Federal Docket Management System (FDMS) Docket Number FMCSA-2017-0045. Using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, Washington, DC 20590-0001.

• Hand Delivery or Courier: U.S. Department of Transportation, 1200 New Jersey Avenue SE., West Building, Ground Floor, Room W12-140, Washington, DC 20590-0001 between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Tura Gatling, Office of Registration Information and Licensing, Department of Transportation, OA, West Building 6th Floor, 1200 New Jersey Avenue SE., Washington, DC 20590. Telephone: 202-385-2412; email tura.gatling@dot.gov.

SUPPLEMENTARY INFORMATION:

Background: The Federal Motor Carrier Safety Administration (FMCSA) registers for-hire motor carriers of regulated commodities under 49 U.S.C. 13902, surface freight forwarders under 49 U.S.C. 13903, and property brokers under 49 U.S.C. 13904. Each registration is effective from the date specified under 49 U.S.C. 13905(c).

Subsection (d) of 49 U.S.C. 13905 also provides that on application of the registrant, the Secretary may amend or revoke a registration. Form OCE-46 allows these transportation entities to apply voluntarily for revocation of their registration (operating rights) or parts thereof. If the transportation entity fails to maintain evidence of the required level of insurance coverage on file with FMCSA, its registration (operating authority) will be revoked involuntarily. Although the effect of both types of revocation is the same, some carriers prefer to request voluntary revocation. For various business reasons, a carrier may request revocation of some part, but not all, of its operating authority.

This information collection supports the DOT Strategic Goal of Safety by enabling motor carriers to voluntarily request revocation of operating authority, or some part of that authority, by identifying themselves to the FMCSA.

A completed Form OCE-46 is filed with FMCSA by the registrant for the purpose of requesting that all, or a part, of its registration be revoked. The information contained on the form is used by the FMCSA in making a determination on the revocation request. The use of Form OCE-46 has proven to be an easy and effective means by which a registrant can request revocation of its registration.

Form OCE-46 is filed by registrants on a voluntary, and for the most part, one-time basis. It calls for a very limited amount of information to identify the registrant and the scope of its request. Thus, the information collection itself has not been automated, although the information collected is ultimately entered into an automated data base. Eighty five percent (85%) of the Form OCE-46 filings are submitted electronically to FMCSA. This ICR is being revised due to an anticipated increase in the estimated number of annual filings from 3,000 to 3,501 and to account for the cost of notarizing and mailing Form OCE-46.

Title: Request for Revocation of Authority Granted.

OMB Control Number: 2126-0018.

Type of Request: Revision of a currently approved collection.

Respondents: For-hire motor carriers of regulated commodities, surface freight forwarders, and property brokers.

Estimated Number of Respondents: 3,501.

Estimated Time per Response: 0.25 hours.

Expiration Date: July 31, 2017.

Frequency of Response: On occasion.

Estimated Total Annual Burden: 875 hours [3,501 responses × 0.25 hour = 875].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: March 16, 2017.
Kelly Regal,
Associate Administrator for Office of Research and Information Technology.

[FR Doc. 2017-05631 Filed 3-21-17; 8:45 am]

BILLING CODE 4910-EX-P